DEPARTMENT OF COMMERCE

National Oceanic and Atmospheric Administration

Agency Information Collection Activities; Submission to the Office of Management and Budget (OMB) for Review and Approval; Comment Request: Atlantic Mackerel, Squid, and Butterfish Amendment 14 Data Collection

AGENCY: National Oceanic and Atmospheric Administration (NOAA), Commerce.

ACTION: Notice of information collection, request for comment.

SUMMARY: The Department of Commerce, in accordance with the Paperwork Reduction Act of 1995 (PRA), invites the general public and other Federal Agencies to comment on proposed, and continuing information collections, which helps us assess the impact of our information collection requirements and minimize the public's reporting burden. The purpose of this notice is to allow for 60 days of public comment preceding submission of the collection to OMB.

DATES: To ensure consideration, comments regarding this proposed information collection must be received on or before August 16, 2024.

ADDRESSES: Interested person are invited to submit written comment to Adrienne Thomas, NOAA PRA Officer, at NOAA.PRA@noaa.gov. Please reference OMB Control Number 0648-0679 in the subject line of your comments. All comments received are part of the public record and will generally be posted on http://www.regulations.gov without change. Do not submit Confidential Business Information or otherwise sensitive or protected information.

FOR FURTHER INFORMATION CONTACT: Requests for additional information or specific questions related to collection activities should be directed to Maria Fenton, Fishery Policy Analyst, 55 Great Republic Drive, Gloucester, MA 01930, (978) 281-9196, or maria.fenton@noaa.gov.

SUPPLEMENTARY INFORMATION:

I. Abstract

This is a request for renewal of an approved information collection. Under the Magnuson-Stevens Fishery Conservation and Management Act, the Secretary of Commerce has the responsibility for the conservation and management of marine fishery resources. Much of this responsibility has been delegated to the NOAA's National Marine Fisheries Service (NMFS). Under this stewardship role, the Secretary was given certain regulatory authorities to ensure the most beneficial uses of these resources. One of the regulatory steps taken to care out the conservation and management objectives is to collect information from users of the resources.

This collection requires limited access mackerel and longfin squid/butterfish moratorium permit holders to bring all catch aboard the vessel and make it available for sampling by an observer. If a catch is not made available to an observer before discard, that catch is defined as slippage, and the vessel operator must complete a “Released Catch Affidavit” form within 48 hours of the end of the fishing trip which details why catch was slipped, estimates the quantity and species composition of the slipped catch, and records the time and location of the slipped catch.

This collection also requires any vessel with a limited access mackerel permit intending to land over 20,000 lb of mackerel to contact NMFS at least 48 hours in advance of a fishing trip to request an observer. Vessels currently contact NMFS via phone, and selection notices or waivers are issued by NMFS via VMS. If service providers are unable to provide coverage, an owner, operator, or vessel manager may request a waiver by calling the Northeast Fisheries Observer Program. Additionally, if a fishing trip is cancelled, vessels must notify NMFS of the cancelled trip to prevent observers from being deployed to a cancelled trip.

II. Method of Collection

Information is submitted on paper and electronically.

III. Data

OMB Control Number: 0648-0679.

Form Number(s): None.

Type of Review: Regular submission (extension of a current information collection).

Affected Public: Business or other for-profit organizations; individual or households, state, local, or tribal government.

Estimated Number of Respondents: 10,035.

Estimated Time per Response: Pre-trip notification to observer program, 5 minutes; Trip Cancellation notification to observer program, 1 minute; Released Catch Affidavit, 5 minutes; and Vessel Permit Swap Form, 5 minutes.

Estimated Total Annual Burden Hours: 765.85.

Estimated Total Annual Cost to Public: $4,358.

Respondent's Obligation: Mandatory.

Legal Authority: The Magnuson-Stevens Fishery Conservation and Management Act.

IV. Request for Comments

We are soliciting public comments to permit the Agency to: (a) Evaluate whether the proposed information collection is necessary for the proper functions of the Agency, including whether the information will have practical utility; (b) Evaluate the accuracy of our estimate of the time and cost burden for this proposed collection, including the validity of the methodology and assumptions used; (c) Evaluate ways to enhance the quality, utility, and clarity of the information to be collected: and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-13295 Filed 6-14-24; 8:45 am]

BILLING CODE 3510-22-P